DEPARTMENT OF HOMELAND SECURITY

Federal Emergency Management Agency

[Docket ID: FEMA-2019-0022; OMB No. 1660-0134

Agency Information Collection Activities: Proposed Collection; Comment Request; Preparedness Activity Registration and Feedback

AGENCY: Federal Emergency Management Agency, DHS.

ACTION: Notice and request for comments.

SUMMARY: The Federal Emergency Management Agency, as part of its continuing effort to reduce paperwork and respondent burden, invites the general public to take this opportunity to comment on a revision of a currently approved information collection. In accordance with the Paperwork Reduction Act of 1995, this notice seeks comments concerning FEMA's Individual and Community Preparedness Division's (ICPD) efforts to enable individuals, organizations, or other groups to register with FEMA and to take part in FEMA's preparedness mission by connecting with individuals, organizations, and communities with research and tools to build and sustain capabilities to prepare for any disaster or emergency.

DATES: Comments must be submitted on or before January 7, 2020.

ADDRESSES: To avoid duplicate submissions to the docket, please use only one of the following means to submit comments:

(1) Online. Submit comments at www.regulations.gov under Docket ID FEMA-2019-0022. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Christi Collins, AICP, Branch Chief, Preparedness Behavior Change, Individual and Community Preparedness Division, National Preparedness Directorate, FEMA, DHS, 400 C Street SW, Washington, DC 20024, 202.615.9865. Christi.collins@fema.dhs.gov. You may contact the Information Management Division for copies of the proposed collection of information at email address: FEMA-Information-Collections-Management@fema.dhs.gov.

SUPPLEMENTARY INFORMATION: As part of 6 U.S.C. Sec. 313 and 314, and the Robert T. Stafford Disaster Relief and Emergency Assistance Act, Section 611 (42 U.S.C. 5196), the mission of the Federal Emergency Management Agency (FEMA) is to reduce the loss of life and property and protect the Nation from all hazards by leading and supporting the Nation in a risk-based, comprehensive emergency management system of preparedness, protection, response, recovery, and mitigation. FEMA's Individual and Community Preparedness Division (ICPD) supports the FEMA Mission by connecting individuals, organizations, and communities with research and tools to build and sustain capabilities to prepare for any disaster or emergency. The Division conducts research to better understand effective preparedness actions and ways to motivate the public to take those actions. ICPD develops and shares preparedness resources and coordinates comprehensive disaster preparedness initiatives that empower communities to prepare for, protect against, respond to, and recover from a disaster. This mission is achieved through close coordination with the FEMA Regions and working relationships with Federal, State, local, and Tribal agencies. This includes working with nongovernmental partners from all sectors both nationally through neighborhood-based community groups.

Collection of Information

Title: Preparedness Activity Registration and Feedback.

Type of Information Collection: Revision of a currently approved information collection.

OMB Number: 1660-0134 (and moving a survey from Generic Clearance, 1660-0130).

FEMA Forms: FEMA Form 008-0-8 (Preparedness Activity Registration) and FEMA Form 519-0-11 (Preparedness Activity Feedback Form).

Abstract: This collection will allow ICPD to gather the following information from the public via web form(s):

• Feedback: General feedback on the effectiveness of national FEMA preparedness programs and initiatives and website user experience

• Activity Details: Information regarding the type, size and location of preparedness activities hosted by members of the public and community organizers

• POC Information: For registration within the site and follow-on communication, if needed

• Future Engagement Requests: Allow for the public to enroll in the ICPD newsletter or other public communications

• Publication Ordering: Submitting requests to the FEMA publication warehouse to have materials shipped directly to members of the public

To fulfill its mission FEMA's Individual and Community Preparedness Division (ICPD) collects information from individuals and organizations by the Preparedness Activity Registration Form and the Preparedness Activity Feedback Form located within a public website (called the “Preparedness Portal”). This collection facilitates FEMA's ability to assess its progress for the following programs:

• Ready 2 Help (www.ready.gov/game)

• You Are the Help Until Help Arrives (www.ready.gov/until-help-arrives)

• Event Registration (www.ready.gov/prepare) (includes Prepareathon event registration)

• Collections where ICPD partners with other National Preparedness Directorate (NPD) offices

As new programs or initiatives are created, ICPD will leverage the pre-approved questions in the question bank provided for this collection. Known future activities include:

• Community-Based Organization Continuity and Resilience Training

• website User Experience Feedback

ICPD uses this information to inform the continuous improvement of the programs and the Division's outreach. Further, the information allows the Division to analyze seasonal trends in preparedness across the variety of programs. Raw data is not shared outside of the database; only results of the data assessment is shared. The data is used for internal reports as well as public-facing talking points.

Affected Public: Individuals, organizations and groups who wish to register for ICPD Preparedness activities to take advantage of FEMA's related resources and available supporting materials.

Estimated Number of Respondents: 86,115.

Estimated Number of Responses: 86,115.

Estimated Total Annual Burden Hours: 7,174.

Estimated Total Annual Respondent Cost: $196,424.

Estimated Respondents' Operation and Maintenance Costs: There are no operation and maintenance costs for respondents.

Estimated Respondents' Capital and Start-Up Costs: There are no capital and start-up costs for respondents.

Estimated Total Annual Cost to the Federal Government: $12,205.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Deputy Director of Information Management, Mission Support, Federal Emergency Management Agency, Department of Homeland Security.

[FR Doc. 2019-24372 Filed 11-7-19; 8:45 am]

BILLING CODE 9111-27-P